DEPARTMENT OF HOUSING AND URBAN DEVELOPMENT

[Docket No. FR-5100-FA-17]

Announcement of Funding Awards for the Resident Opportunity and Self-Sufficiency (ROSS)—Elderly and Persons with Disabilities for Fiscal Year 2007

AGENCY: Office of Public and Indian Housing, HUD.

ACTION: Announcement of funding awards.

SUMMARY: In accordance with Section 102(a)(4)(C) of the Department of Housing and Urban Development Reform Act of 1989, this announcement notifies the public of funding decisions made by the Department for funding under the Fiscal Year (FY) 2007 Notice of Funding Availability (NOFA) for the Resident Opportunity and Self-Sufficiency Elderly/Persons with Disabilities Program funding for FY2007. This announcement contains the consolidated names and addresses of award recipients selected for funding based on the rating and ranking of all applications and the allocation of funding available for each state.

FOR FURTHER INFORMATION CONTACT: For questions concerning the FY2007 ROSS Elderly/Persons with Disabilities awards, contact the Office of Public and Indian Housing's Grants Management Center, Acting Director, J. David Reeves, Department of Housing and Urban Development, Washington, DC, telephone (202) 475-8906. For the hearing or speech impaired, these numbers may be accessed via TTY (text telephone) by calling the Federal Information Relay Service at 1 (800) 877-8339. (Other than the “800” TTY number, these telephone numbers are not toll-free.)

SUPPLEMENTARY INFORMATION: The authority for the $20,000,000 in one-year budget authority for ROSS Elderly/Persons with Disabilities program is found in the Departments of Veteran Affairs and Housing and Urban Development, and Independent Agencies Appropriations Act, FY 2007 (Pub. L. 110-5). The allocation of housing assistance budget authority is pursuant to the provisions of 24 CFR part 791, subpart D, implementing section 213(d) of the Housing and Community Development Act of 1974, as amended.

This program is intended to promote the development of local strategies to coordinate the use of assistance under the ROSS program with public and private resources to enable participating families to achieve economic independence and self-sufficiency. A Public and Indian Housing Program Coordinator assures that program participants are linked to the supportive services they need to achieve self-sufficiency.

The FY2007 awards announced in this Notice were selected for funding in a competition announced in a Federal Register NOFA published on March 13, 2007 (71 FR 3382). Applications were scored based on the selection criteria in that NOFA and funding selections made based on the rating and ranking of applications within each state.

In accordance with Section 102(a)(4)(C) of the Department of Housing and Urban Development Reform Act of 1989 (103 Stat. 1987, 42 U.S.C. 3545), the Department is publishing the names, addresses, and amounts of the 62 awards made under the ROSS Elderly/Persons with Disabilities Program competition.

Dated: October 31, 2008.
Paula O. Blunt,
General Deputy Assistant Secretary for Public and Indian Housing.

Appendix A Fiscal Year 2007 Funding Awards for the Ross Elderly/Persons with Disabilities Program

Recipient | Address | City | State | Zip code | Amount
Tlingit-Haida Regional Housing Authority | 5446 Jenkins Drive | Juneau | AK | 99801 | $231,700
Mobile Housing Board | 151 South Claiborne Street | Mobile | AL | 36602 | 350,000
Prichard Housing Authority | 4559 St. Stephens Road | Eight Mile | AL | 36613 | 250,000
Lutheran Social Services of the Southwest | 5049 East Broadway, Suite 102 | Tucson | AZ | 85711 | 375,000
Moenkopi Senior Center Inc. | P.O. Box 2139 North East Hopi Hsg | Tuba City | AZ | 86045 | 193,446
Area Housing Authority of the County of Ventura | 1400 West Hillcrest Drive | Newbury Park | CA | 91320 | 250,000
Housing Authority of the City of Los Angeles | 2600 Wilshire Boulevard, Third Floor | Los Angeles | CA | 90057 | 313,101
Housing Authority of the County of Merced | 405 U Street | Merced | CA | 95340 | 250,000
Housing Authority of the County of San Diego | 3989 Ruffin Road | San Diego | CA | 92123 | 235,093
Northern California Presbyterian Homes and Services, Inc | 1525 Post Street | San Francisco | CA | 94109 | 375,000
The Housing Authority of the County of Los Angeles | 2 Coral Circle | Monterey Park | CA | 91755-7404 | 450,000
Boulder Housing Partners (dba) Housing Auth. City of Boulder | 4800 Broadway | Boulder | CO | 80304 | 249,444
District of Columbia Housing Authority | 1133 North Capitol Street, Northeast | Washington | DC | 20002 | 450,000
Housing Authority of Lakeland | 430 Hartsell Avenue | Lakeland | FL | 33815 | 250,000
Palatka Housing Authority | 400 North 15th Street | Palatka | FL | 32178 | 209,960
Housing Authority of Columbus, Georgia | P.O. Box 630 1000 Wynnton Road | Columbus | GA | 31902-0630 | 350,000
Housing Authority of the City of College Park, Georgia | 2000 Princeton Avenue | College Park | GA | 30337 | 250,000
Macon Housing Authority | 2015 Felton Avenue | Macon | GA | 31201 | 250,000
Northwest Georgia Housing Authority | 800 North Fifth Avenue | Rome | GA | 30162 | 350,000
Coeur d'Alene Tribal Housing Authority | 1005 8th Street | Plummer | ID | 83851 | 250,000
Housing Authority of Henry County | 100 Fairview Junction | Kewanee | IL | 61443 | 128,228
Housing Authority of the City of Muncie | 409 East First Street | Muncie | IN | 47302 | 250,000
Campbellsville Housing & Redevelopment Authority | 400 Ingram Avenue | Campbellsville | KY | 42718 | 250,000
ElderServ, Inc. | 411 East Muhammad Ali Boulevard | Louisville | KY | 40202 | 250,000
Housing Authority of Covington | 2300 Madison Avenue | Covington | KY | 41014 | 250,000
Housing Authority of Martin | P.O. Box 806 | Martin | KY | 41649 | 250,000
Housing Authority of Maysville | 600 Clark Street | Maysville | KY | 41056 | 250,000
Housing Authority of Williamsburg | 600 Brush Arbor Road | Williamsburg | KY | 40769 | 250,000
Lebanon Housing Authority | 101 Hamilton Heights | Lebanon | KY | 40033 | 250,000
Jennings Housing Authority | P.O. Box 921 300 Bangle Drive | Jennings | LA | 70546 | 250,000
Springfield Housing Authority | 25 Saab Court | Springfield | MA | 01104 | 350,000
Easter Seals Greater Washington-Baltimore Region, Inc | 4041 Powder Mill Road, Suite 100 | Calverton | MD | 20705-3106 | 375,000
Aroostook Family Investment Center | 159 Bennett Drive, Suite 7 | Caribou | ME | 04736-2049 | 375,000
Westbrook Housing Authority | 30 Liza Harmon Drive | Westbrook | ME | 4092 | 233,306
City of Manistee Housing Commission | 237 6th Avenue | Manistee | MI | 49660 | 250,000
Clinton Housing Authority | 7 Bradshaw Drive | Clinton | MO | 64735 | 175,744
Sedalia Housing Authority | 500 Welch | Sedalia | MO | 65301 | 118,699
Charlotte Housing Authority | 1301 South Boulevard | Charlotte | NC | 28214 | 450,000
Housing Authority of the City of High Point | 500 East Russell Avenue | High Point | NC | 27260 | 349,810
The Housing Authority of the City of Durham | P.O. Box 1726 330 East Main Street | Durham | NC | 27701 | 350,000
Fargo Housing and Redevelopment Authority | 325 Broadway | Fargo | ND | 58102 | 349,973
Housing Authority of the City of Camden | 2120 Watson Street, 2nd Floor | Camden | NJ | 8105 | 238,799
Housing Authority of the City of Rahway | 165 East Grant Avenue | Rahway | NJ | 7065 | 250,000
City Harvest, Inc. | 575 Eighth Avenue, 4th Floor | New York | NY | 10018 | 295,218
New Rochelle Municipal Housing Authority | 50 Sickles Avenue | New Rochelle | NY | 10801-3416 | 250,000
Newark Housing Authority | P.O. Box 108 200 Driving Park Circle | Newark | NY | 14513-0108 | 97,391
Saratoga Springs Housing Authority | 1 South Federal Street | Saratoga Springs | NY | 12866 | 250,000
The Municipal Housing Authority for the City of Yonkers | P.O. Box 35 | Yonkers | NY | 10710-0035 | 350,000
Community Support Services Inc. | 150 Cross Street | Akron | OH | 44311 | 374,207
Portage Metropolitan Housing Authority | 2832 State Route 59 | Ravenna | OH | 44266 | 250,000
Delaware County Housing Authority | 1855 Constitution Avenue | Woodlyn | PA | 19094 | 250,000
Housing Authority of the County of Luzerne | 250 First Avenue | Kingston | PA | 18704-5103 | 350,000
Central Falls Housing Authority | 30 Washington Street | Central Falls | RI | 2863 | 210,260
North Charleston Housing Authority | 2170 Ashley Phosphate Road, Suite 700 | North Charleston | SC | 29406 | 250,000
Kingsport Housing & Redevelopment Authority | P.O. Box 44 | Kingsport | TN | 37662 | 249,804
Housing Authority of the City of Belton, Texas | P.O. Box 708 715 Saunders | Temple | TX | 76503 | 62,500
Bristol Redevelopment and Housing Authority | 809 Edmond Street | Bristol | VA | 24201 | 250,000
Roanoke Redevelopment and Housing Authority | 2624 Salem Turnpike, Northwest | Roanoke | VA | 24017-0359 | 350,000
Community Psychiatric Clinic | 4319 Stone Way North | Seattle | WA | 98103-7490 | 300,000
Friends of Housing Corporation | 9141 West Lisbon Avenue | Milwaukee | WI | 53222 | 375,000
Lac Courte Oreilles Band of Lake Superior Chippewa Indians | 13394 W. Trepania Road | Hayward | WI | 54843 | 185,860
S.E.T. Ministry, Inc. | 2977 North 50th Street | Milwaukee | WI | 53210 | 250,000

[FR Doc. E8-26658 Filed 11-7-08; 8:45 am]

BILLING CODE 4210-67-P